DEPARTMENT OF COMMERCE

National Oceanic and Atmospheric Administration

[I.D. 011107G]

Endangered Species; File No. 1596

AGENCY: National Marine Fisheries Service (NMFS), National Oceanic and Atmospheric Administration (NOAA), Commerce.

ACTION: Notice; issuance of permit.

SUMMARY: Notice is hereby given that NMFS Southwest Fisheries Science Center, 8604 La Jolla Shores Drive, La Jolla, CA 92037-1508 has been issued a permit to take leatherback (Dermochelys coriacea) sea turtles for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 427-2521;

Southwest Region, NMFS, 501 West Ocean Blvd., Suite 4200, Long Beach, CA 90802-4213; phone (562) 980-4001; fax (562) 980-4018.

FOR FURTHER INFORMATION CONTACT: Patrick Opay or Amy Hapeman, (301) 713-2289.

SUPPLEMENTARY INFORMATION: On October 20, 2006, notice was published in the Federal Register (71 FR 61960) that a request for a scientific research permit to take leatherback sea turtles had been submitted by the above-named organization. The requested permit has been issued under the authority of the Endangered Species Act of 1973, as amended (ESA; 16 U.S.C. 1531 et seq.) and the regulations governing the taking, importing, and exporting of endangered and threatened species (50 CFR parts 222-226).

The researchers will continue long-term monitoring of the status of leatherback sea turtles off the coasts of California, Oregon, and Washington to determine their abundance, distribution, size ranges, sex ratio, health status, diving behavior, local movements, habitat use, and migration routes. Up to 38 animals will be captured using a breakaway hoop net and be measured, weighed, blood and tissue sampled, photographed, and flipper and passive integrated transponder (PIT) tagged. A subset of animals are to have biotelemetry devices (e.g., transmitters) attached to them. An additional 40 animals will be approached (but not captured) and have a VHF/TDR/sonic tag unit attached to them by suction cup using a long pole or these animals would be tissue sampled with a biopsy pole. The primary goal is to address priorities outlined in the U.S. Pacific leatherback Recovery Plan and identify critical forage habitats, genetic stock structure, migratory corridors, and potential fishery impacts on this species in the Pacific. This information is necessary to make informed management decisions concerning these turtles and their habitat. The permit is issued for 5 years.

Issuance of this permit, as required by the ESA, was based on a finding that such permit (1) was applied for in good faith, (2) will not operate to the disadvantage of any endangered or threatened species, and (3) is consistent with the purposes and policies set forth in section 2 of the ESA.

Dated: January 18, 2007.
P. Michael Payne,
Chief, Permits, Conservation and Education Division, Office of Protected Resources, National Marine Fisheries Service.

[FR Doc. E7-1014 Filed 1-23-07; 8:45 am]

BILLING CODE 3510-22-S